DEPARTMENT OF HEALTH AND HUMAN SERVICES

National Institutes of Health

National Cancer Institute; Notice of Meeting

Pursuant to section 10(a) of the Federal Advisory Committee Act, as amended (5 U.S.C. Appendix 2), notice is hereby given of a meeting of the Advisory Committee to the Director, National Cancer Institute.

The meeting will be open to the public, with attendance limited to space available. Individuals who plan to attend and need special assistance, such as sign language interpretation or other reasonable accommodations, should notify the Contact Person listed below in advance of the meeting.

Name of Committee: Advisory Committee to the Director, National Cancer Institute.

Date: October 31, 2005.

Time: 11 a.m. to 11:45 a.m.

Agenda: The purpose of the meeting will be to review the key Sarcoma PRG recommendations.

Place: National Institutes of Health, National Cancer Institute, 31 Center Drive, Room 11A48, Bethesda, MD 20892, (Telephone Conference Call).

Contact Person: Cherie Nichols, Director of Science Planning and Assessment, National Cancer Institute, National Institutes of Health, Building 6116, Room 205, Bethesda, MD 20892, (301) 496-5515.

Information is also available on the Institute's/Center's home page: http://deainfo.nci.nih.gov/advisory/joint/htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: October 4, 2005.
Anthony M. Coelho, Jr.,
Acting Director, Office of Federal Advisory Committee Policy.

[FR Doc. 05-20755 Filed 10-17-05; 8:45 am]

BILLING CODE 4140-01-M